DEPARTMENT OF HEALTH AND HUMAN SERVICES

National Institutes of Health

Center for Scientific Review; Amended Notice of Meeting

Notice is hereby given of a change in the meeting of the Microscopic Imaging Study Section, February 5, 2009, 8 a.m. to February 5, 2009, 7 p.m., Holiday Inn San Francisco Fisherman's Wharf, 1300 Columbus Avenue, San Francisco, CA 94133 which was published in the Federal Register on January 16, 2009, 74 FR 3062-3064.

This AED meeting will be held at the National Institutes of Health, 6701 Rockledge Drive, Bethesda, MD 20882.

The meeting date and time remain the same. The meeting is closed to the public.

Dated: January 27, 2009.
Jennifer Spaeth,
Director, Office of Federal Advisory Committee Policy.

[FR Doc. E9-2276 Filed 2-3-09; 8:45 am]

BILLING CODE 4140-01-M